DEPARTMENT OF TRANSPORTATION

Federal Railroad Administration

Notice of Application for Approval of Discontinuance or Modification of a Railroad Signal System

Pursuant to Title 49 Code of Federal Regulations (CFR) Part 235 and 49 U.S.C. 20502(a), the following railroad has petitioned the Federal Railroad Administration (FRA) seeking approval for the discontinuance or modification of the signal, as detailed below.

[Docket Number FRA-2011-0005]

Applicant: CSX Transportation, Inc., Mr. Joseph Ivanyo, Chief Engineer, Communications and Signals, 500 Water Street, Speed Code J-350, Jacksonville, FL 32202.

The CSX Transportation, Inc. (CSXT) seeks approval of the proposed modification of the block signal system on Main Tracks #1 and #2, at R Cabin, milepost (MP) CA-83.10, Peninsula Subdivision, Huntington Division, Richmond, Virginia.

CSXT will retire controlled signals, 80LA, 80LC, and 80R, at Egypt (MP 81.8) and controlled signals 88LA, 88LC, 88LD, at MP 82.3. The power-operated switch at MP 82.3 will be converted to hand-operation and an electric lock will be installed. An electric lock is to be installed on the hand-operated switch at MP 81.5. Main Track #1 method of operation will become Rule 261 signaled in both directions within Yard Limits, between MP 81.00 and MP 83.2, with the discontinuance and removal of automatic signal #821, at Scott St. (MP 82.03), and automatic signal #831 (MP 83.1) near Orleans St. Electric locks will be installed at switch #83 (MP 83) and switch #83.2 (MP 83.2) on Main #1.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (Docket No. FRA-2011-0005) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on March 24, 2011.
John G. Leeds, Jr.,
Director, Office of Safety Analysis.

[FR Doc. 2011-7464 Filed 3-29-11; 8:45 am]

BILLING CODE P